DEPARTMENT OF AGRICULTURE

Commodity Credit Corporation

Farm Service Agency

Information Collection

AGENCY: Commodity Credit Corporation; Farm Service Agency, USDA.

ACTION: Notice and request for comments.

SUMMARY: In accordance with the Paperwork Reduction Act of 1995, the Commodity Credit Corporation (CCC) and the Farm Service Agency (FSA) are seeking comments from all interested individuals and organizations on the reinstatement and revision of previously approved information collections with respect to the acreage report for the Non-Insured Crop Disaster Assistance Program (NAP) and the Tobacco Program, payers' requests for identifying numbers, the tobacco marketing quota referenda and receiving station information reporting, assignments of payments and joint payment authorizations, the Lamb Meat Adjustment Assistant Program and designation of burley tobacco sales and program payment applications. Comments are also requested on extension and revision of a currently approved information collection with respect to tobacco farm reconstitutions. These information collections are needed to administer FSA's programs.

DATES: Comments on this notice must be received on or before February 28, 2003, to be assured consideration. Comments received after that date will be considered to the extent practicable. Comments should reference the OMB number and title of the information collection to which they pertain.

ADDRESSES: Comments should be sent to Tom Witzig, Director, Regulatory Review and Foreign Investment Disclosure Group, Economic and Policy Analysis Staff, Farm Service Agency, STOP 0540, 1400 Independence Avenue, SW., Washington, DC 20250-0540, (202) 205-5851; e-mail Tom_Witzig@wdc.fsa.usda.gov and to the Desk Officer for Agriculture, Office of Information and Regulatory Affairs, Office of Management and Budget, Washington, DC 20503. All comments will become a matter of public record. For further information, contact Tom Witzig at the address listed above.

SUPPLEMENTARY INFORMATION:

Title: Report of Acreage for the Non-Insured Crop Disaster Assistance Program and the Tobacco Program.

OMB Number: 0560-0004.

Type of Request: Reinstatement with revision of a previously approved information collection.

Abstract: Crop and acreage information is collected from producers to determine eligibility for the Non-Insured Crop Disaster Assistance Program (NAP) and the Tobacco Program. NAP provides financial assistance to eligible producers affected by natural disasters. NAP assistance is available for crops for which federal crop insurance is not available. NAP operates under the regulations at 7 CFR part 1437. The tobacco programs establish marketing quotas for individual farms that directly control the amount of tobacco that a producer may sell and operate under the regulations at 7 CFR part 1464.

Respondents: Farmers who produce eligible crops under NAP and tobacco farmers.

Estimated Annual Number of Respondents: 772,000.

Estimated Annual Number of Forms per person: 1.5.

Estimated Average Time to Respond: .95 hours.

Estimated Total Annual Burden Hours: 1,094,513.

Title: Payers' Request for Identifying Number.

OMB Number: 0560-0121.

Type of Request: Reinstatement of a previously approved information collection.

Abstract: This collection of information is needed to obtain a Social Security, employer identification or IRS-assigned number from persons who receive CCC or FSA program payments who do not already have an identifying number on file with FSA. Such persons are required by the Internal Revenue to furnish identifying numbers to payers required to report such payments to the Internal Revenue Service. The form used for collecting the information is prepared by FSA and sent to the payee for completion with a self-addressed, postage-paid return envelope.

Respondents: Persons receiving payments from FSA.

Estimated Annual Number of Respondents: 250.

Estimated Annual Number of Responses Per Person: 1.

Estimated Average Time to Respond: 5 minutes.

Estimated Total Annual Burden Hours: 20.83 hours.

Title: Tobacco Marketing Quota Referenda and Receiving Station Information Reporting.

OMB Number: 0560-0182.

Type of Request: Reinstatement with revision of a previously approved information collection.

Abstract: Referenda are required by statute to be held every three years for each type of tobacco subject to marketing quotas to determine if quotas are to be in effect for the succeeding three years. The collection of information for the referenda consists of the ballots, which may also include other, tobacco-related questions required by Congress to solicit producers' opinions about other aspects of the tobacco program or to allow them to vote on some program provisions in some States. The referenda are operated under the regulations at 7 part 717. The information collected from receiving stations consists of receiving station registration and purchase information needed to ensure that tobacco marking quotas are effective. The regulations governing the receiving stations are at 7 CFR parts 723 and 1464.

Respondents: Tobacco producers and receiving stations.

Estimated Annual Number of Respondents: 325,000.

Estimated Annual Number of Responses Per Person: 1.

Estimated Average Time to Respond: 53 minutes.

Estimated Total Annual Burden Hours: 290,000.

Title: Assignments of Payments and Joint Payment Authorizations.

OMB Number: 0560-0183.

Type of Request: Reinstatement with revisions of a previously approved information collection.

Abstract: When the recipient of a CCC or FSA payment chooses to assign a payment to another party or have the payment made jointly with another party, the other party must be identified. This is a free service that is available upon request by the program payee. The regulations for assignment of payments are at 7 CFR part 1404.

Respondents: Persons receiving payments from CCC or FSA.

Estimated Annual Number of Respondents: 70,900.

Estimated Annual Number of Responses Per Person: 1.

Estimated Average Time to Respond: 10 minutes.

Estimated Total Annual Burden Hours: 11,816.

Title: Lamb Meat Adjustment Assistance Program.

OMB Number: 0560-0205.

Type of Request: Reinstatement of a previously approved information collection.

Abstract: This information collection is needed to obtain information from program participants on their sheep and lamb operations. The information is used to establish eligibility and determine payment amounts. The program is operated under the regulations at 7 CFR part 784.

Respondents: Sheep and lamb producers.

Estimated Annual Number of Respondents: 60,000.

Estimated Number of Responses Per Person: 5.05.

Estimated Average Time to Respond: 1.16 hours.

Estimated Total Annual Burden Hours: 351,257.

Title: Designation of Burley Tobacco Sales and Program Payment Applications.

OMB Number: 0560-0217.

Type of Request: Reinstatement of a previously approved information collection.

Abstract: This collection of information is needed to allow USDA to assign tobacco graders as needed to auction warehouses in order to grade tobacco that is delivered for sale. Information is collected on where burley tobacco producers intend to sell their tobacco and program applicant information for all kinds of tobacco, which is used to determine eligibility for benefits. The program is operated under the regulations at 7 CFR part 1464.

Respondents: Burley tobacco producers.

Estimated Annual Number of Respondents: 150,800.

Estimated Annual Number of Responses Per Person: 1.

Estimated Average Time to Respond: 1.25 hours.

Estimated Total Annual Burden Hours: 188,500 hours.

Title: Tobacco Farm Reconstitutions.

OMB Number: 0560-0025.

Expiration Date: March 31, 2003.

Type of Request: Extension with revision of a currently approved information collection.

Abstract: The reconstitution process is required when a producer wishes to increase acreage attributed to the farm from leases, change farm acreage records as a result of a sale of any part of a farm, combine a farm with another farm or divide a farm into multiple farming operations. The FSA country committee must approve or disapprove all proposed farm reconstitutions. The information is necessary to determine farmland, cropland, and changes to quotas or allotments resulting from combinations or divisions of farming operations.

Respondents: Tobacco farm owners and operators.

Estimated Annual Number of Respondents: 7,154.

Estimated Annual Number of Responses Per Person: 1.

Estimated Average Time to Respond: 45 minutes.

Estimated Total Annual Burden Hours: 5,365 hours.

Comments are invited on each of the information collections in this notice regarding (1) whether the collection of information is necessary for the proper performance of the functions of the agency, including whether the information will have practical utility; (2) the accuracy of the agency's estimate of burden, including the validity of the methodology and assumption used: (3) ways to enhance the quality, utility and clarity of the information to be collected; and (4) ways to minimize the burden of the collection of information on those who are to respond, including through the use of appropriate automated, electronic, mechanical, or other technological collection techniques or other forms of information technology.

All comments received in response to this notice, including names and addresses when provided, will be a matter of public record. Comments will be summarized and included in the submission for OMB approval.

Signed in Washington, DC on December 20, 2002.
James R. Little,
Administrator, Farm Service Agency, and Executive Vice-President, Commodity Credit Corporation.

[FR Doc. 02-32804 Filed 12-27-02; 8:45 am]

BILLING CODE 3410-05-M